DEPARTMENT OF THE INTERIOR

National Park Service

[NPS-WASO-NAGPRA-NPS0028629; PPWOCRADN0-PCU00RP14.R50000]

Notice of Inventory Completion: The Florida Department of State/Division of Historical Resources, Tallahassee, FL; Correction

AGENCY: National Park Service, Interior.

ACTION: Notice; correction.

SUMMARY: The Florida Department of State, Division of Historical Resources has corrected an inventory of human remains and associated funerary objects, published in a Notice of Inventory Completion in the Federal Register on March 7, 2017. This notice corrects the number of associated funerary objects and affiliation. Lineal descendants or representatives of any Indian Tribe or Native Hawaiian organization not identified in this notice that wish to request transfer of control of these human remains and associated funerary object should submit a written request to the Florida Department of State, Division of Historical Resources. If no additional requestors come forward, transfer of control of the human remains and associated funerary object to the lineal descendants, Indian tribes, or Native Hawaiian organizations stated in this notice may proceed.

DATES: Lineal descendants or representatives of any Indian Tribe or Native Hawaiian organization not identified in this notice that wish to request transfer of control of these human remains and associated funerary object should submit a written request with information in support of the request to the Florida Department of State, Division of Historical Resources at the address in this notice by October 3, 2019.

ADDRESSES: Kathryn Miyar, Florida Department of State, Division of Historical Resources, Mission San Luis State Archaeological Collections, 2100 West Tennessee Street, Tallahassee, FL 32304, telephone (850) 245-6301, email kathryn.miyar@dos.myflorida.com.

SUPPLEMENTARY INFORMATION: Notice is here given in accordance with the Native American Graves Protection and Repatriation Act (NAGPRA), 25 U.S.C. 3003, of the correction of an inventory of human remains and associated funerary object under the control of the Florida Department of State, Division of Historical Resources, Tallahassee, FL. The human remains and associated funerary object were removed from the McClamory Key site (8LV288), Levy County, FL.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

This notice corrects the number of associated funerary objects and the listing of Indian Tribes that are recognized as aboriginal to the area from which the human remains and associated funerary objects were removed published in a Notice of Inventory Completion in the Federal Register (82 FR 12836-12839, March 7, 2017). Four hafted bifaces were found initially in association with human burials eroding from site 8LV288, however, three of these bifaces were recorded in the field and then reburied in the vicinity of the burials. When the archeological crew returned to the site to prepare for recovery operations of the burials, due to looting activity at the site, these bifaces could not be relocated and are presumed to have been looted by the same individual or individuals who had disturbed the burials earlier that year. Therefore, there is only one biface in the Florida Department of State, Division of Historical Resources Archaeological Collections.

There are three Indian Tribes that are recognized as aboriginal to the area from which the human remains were removed, not one. Transfer of control of the items in this correction notice has not occurred.

Correction

In the Federal Register (82 FR 12838, March 7, 2017), column 2, paragraph 3, sentence 12 is corrected by substituting the following sentence:

Associated funerary objects include one hafted lithic biface.

In the Federal Register (82 FR 12838, March 7, 2017), column 3, paragraph 1, sentence 3 is corrected by substituting the following sentence:

Pursuant to 25 U.S.C. 3001(3)(A), the one object described in this notice is reasonably believed to have been placed with or near individual human remains at the time of death or later as part of the death rite or ceremony.

In the Federal Register (82 FR 12838, March 7, 2017), column 3, paragraph 1, sentence 5 is corrected by substituting the following sentence:

According to final judgments of the Indian Claims Commission or the Court of Federal Claims, the land from which the Native American human remains and associated funerary objects were removed is the aboriginal land of the Miccosukee Tribe of Indians; Seminole Tribe of Florida (previously listed as the Seminole Tribe of Florida (Dania, Big Cypress, Brighton, Hollywood & Tampa Reservations)); and The Seminole Nation of Oklahoma.

In the Federal Register (82 FR 12838, March 7, 2017), column 3, paragraph 1, sentence 6 is corrected by substituting the following sentence:

Pursuant to 43 CFR 10.11(c)(1), the disposition of the human remains may be to the Miccosukee Tribe of Indians; Seminole Tribe of Florida (previously listed as the Seminole Tribe of Florida (Dania, Big Cypress, Brighton, Hollywood & Tampa Reservations)); and The Seminole Nation of Oklahoma.

Additional Requestors and Disposition

Lineal descendants or representatives of any Indian Tribe or Native Hawaiian organization not identified in this notice that wish to request transfer of control of these human remains and associated funerary object should submit a written request with information in support of the request to Kathryn Miyar, Florida Department of State, Division of Historical Resources, Mission San Luis State Archaeological Collections, 2100 West Tennessee Street, Tallahassee, FL 32304, telephone (850) 245-6301, email kathryn.miyar@dos.myflorida.com, by October 3, 2019. After that date, if no additional requestors have come forward, transfer of control of the human remains and associated funerary object to the Miccosukee Tribe of Indians; Seminole Tribe of Florida (previously listed as the Seminole Tribe of Florida (Dania, Big Cypress, Brighton, Hollywood & Tampa Reservations)); and The Seminole Nation of Oklahoma may proceed.

The Florida Department of State Division of Historical Resources is responsible for notifying the Miccosukee Tribe of Indians; Seminole Tribe of Florida (previously listed as the Seminole Tribe of Florida (Dania, Big Cypress, Brighton, Hollywood & Tampa Reservations)); and The Seminole Nation of Oklahoma that this notice has been published.

Dated: July 31, 2019.
Melanie O'Brien,
Manager, National NAGPRA Program.

[FR Doc. 2019-18860 Filed 8-30-19; 8:45 am]

BILLING CODE 4312-52-P